ENVIRONMENTAL PROTECTION AGENCY

40 CFR Parts 261, 262, and 266

[EPA-HQ-OLEM-2023-0081; FRL 8687-04-OLEM]

RIN 2050-AH23

Hazardous Waste Generator Improvements Rule, the Hazardous Waste Pharmaceuticals Rule, and the Definition of Solid Waste Rule; Technical Corrections

AGENCY: Environmental Protection Agency (EPA).

ACTION: Final rule.

SUMMARY: The Environmental Protection Agency (EPA or the Agency) is finalizing five amendments that were withdrawn in its December 6, 2023, partial withdrawal of direct final rule. Due to receipt of adverse comments, the EPA withdrew eight amendments from the August 9, 2023, direct final rule that included revisions to the 2016 Hazardous Waste Generator Improvements Rule, the 2019 Hazardous Waste Pharmaceuticals Rule and the 2018 Vacatur of the Definition of Solid Waste Rule (88 FR 54086). The EPA is responding to the relevant adverse comments in this action.

DATES: This final rule is effective on February 10, 2025.

ADDRESSES: The EPA has established a docket for this action under Docket ID No. EPA-HQ-OLEM-2023-0081. All documents in the docket are listed on the http://www.regulations.gov website. Although listed in the index, some information is not publicly available, e.g., CBI or other information whose disclosure is restricted by statute. Certain other material, such as copyrighted material, is not placed on the internet and will be publicly available only in hard copy form. Publicly available docket materials are available electronically through http://www.regulations.gov.

FOR FURTHER INFORMATION CONTACT: Kathy Lett, U.S. Environmental Protection Agency, Office of Resource Conservation and Recovery (MC: 5304T), 1200 Pennsylvania Avenue NW, Washington, DC 20460, (202) 566-0517, (lett.kathy@epa.gov) or Kristin Fitzgerald, U.S. Environmental Protection Agency, Office of Resource Conservation and Recovery (MC: 5304T), 1200 Pennsylvania Avenue NW, Washington, DC 20460, (202) 566-0512 (fitzgerald.kristin@epa.gov).

SUPPLEMENTARY INFORMATION:

I. General Information

A. Does this action apply to me?

Entities potentially affected by this action include hazardous waste generators, treatment, storage, and disposal facilities, healthcare facilities, reverse distributors, importers/exporters of hazardous waste, and users of the transfer-based exclusion to the definition of solid waste. Also affected are States and EPA Regions implementing these RCRA hazardous waste regulations.

This discussion is not intended to be exhaustive, but rather provides a guide for readers regarding entities likely to be regulated by this action. This discussion includes the types of entities that the EPA is now aware could potentially be regulated by this action. Other types of entities not included could also be regulated. To determine whether your entity is regulated by this action, you should carefully examine the applicability criteria found in Section IV of the preamble. If you have questions regarding the applicability of this action to a particular entity, consult the persons listed in the FOR FURTHER INFORMATION CONTACT section.

B. What action is the agency taking?

This action finalizes five amendments that were included in its August 9, 2023, direct final rule that made technical corrections to three rulemakings related to the generation of hazardous waste: the 2016 Hazardous Waste Generator Improvements Rule, the 2019 Hazardous Waste Pharmaceuticals Rule, and the 2018 Vacatur of the Definition of Solid Waste Rule (88 FR 54086). Due to receipt of adverse comments, eight amendments were withdrawn in the EPA's December 6, 2023, partial withdrawal of direct final rule (88 FR 84710). EPA has evaluated the comments received on the amendments and is finalizing five of these amendments, found in §§ 261.4(e)(1), 262.16(b)(1), 262.17(a)(8)(i) introductory text, 262.17(a)(8)(i)(A) and 266.508(a)(2)(ii). These five provisions relate to the 2016 Hazardous Waste Generator Improvements Rule and the 2019 Hazardous Waste Pharmaceuticals Rule.

Finalizing these technical corrections will correct or clarify the regulations for generators and handlers of hazardous waste. The EPA is also responding in this preamble to the adverse comments on the items that we are finalizing in this action. The three provisions we are not finalizing will not go into effect with this action and the EPA is not responding to the adverse comments on these three provisions.

C. What is the agency's authority for taking this action?

This rule is authorized under sections 1004, 2002, 3001, 3002, 3003, 3004, 3005, 3006, and 3010, of the Resource Conservation and Recovery Act of 1976, as amended, 42 U.S.C. 6903, 6912, 6921, 6922, 6923, 6924, 6925, 6926, and 6930.

III. Background

In the EPA's August 9, 2023, direct final rule (88 FR 54086), EPA explained that the Agency views the minor fixes and clarifications included in the action as noncontroversial. However, EPA published a parallel proposed rule the same day that could serve as the proposed rule to adopt the provisions in the direct final rule if adverse comments were received. EPA stated that in this case, there would not be a second comment period on this action.

The direct final rule preamble also stated that if the Agency were to receive adverse comment on any individual correction, we would publish a timely withdrawal in the Federal Register informing the public about the specific regulatory paragraph or amendment that will not take effect.

The EPA received adverse comments on eight amendments from the direct final rule and withdrew them on December 6, 2023 (88 FR 84710). All corrections that were not withdrawn became effective on December 7, 2023.

IV. Provisions Being Finalized and Response to Comment

A. Section 261.4(e)(1)

The August 9, 2023, direct final rule identified a number of regulatory citations that were incorrect and outdated in the regulations for generators of hazardous waste and updated those citations. Section 261.4(e) provides requirements for management of samples used in treatability studies and included citations that needed to be updated. The list of corrections included revising § 261.4(e)(1) to replace the references to quantity determinations in §§ 261.5 and 262.34(d) with a reference to the counting requirements in § 262.13 and the accumulation limits in § 262.16(b)(1).

EPA received an adverse comment to this revision. The commenter stated that it appears that the revised citation in this location, which identifies which categories of generators do not need to count treatability sample weight towards generator accumulation limits was incomplete. The comment stated that the revised citation should point to the accumulation limits for very small quantity generators (VSQGs), large quantity generators (LQGs), and satellite accumulation areas (SAAs), not just SQGs.

EPA partially agrees with the commenter and is revising this citation to include references to §§ 262.14(a)(3) and (4), the accumulation limits for VSQGs accumulating acute and non-acute hazardous waste. The original language in this section referred to accumulation limits for VSQGs and SQGs and this revision reestablishes those two references. Generators accumulating waste at SAAs must include that waste in their monthly quantities for determining generator status, but the original regulatory language did not refer to the SAA requirements and LQGs do not have an accumulation limit. For these reasons, EPA is not amending the language to add any references to SAA or LQG requirements.

B. Section 262.16(b)(1)

The 2016 Generator Improvements rule established definitions for very small, small, and large quantity generators, reorganized the regulations for these categories of generators, and clearly distinguished the generator categories—determined by how much hazardous waste is generated per calendar month at a site—from the conditions for exemption that specify limits for how much hazardous waste small and very small quantity generators can accumulate on site at any one time.

However, the small quantity generator conditions for exemption include an on-site accumulation limit of 6,000 kilograms for non-acute hazardous waste but do not specify an on-site accumulation limit for acute hazardous waste.

In the original 1980 hazardous waste generator regulations, there were only two categories of hazardous waste generator: small (generating less than 1,000 kilograms of hazardous waste per month) and large (generating more than 1,000 kilograms of hazardous waste per month). These pre-1986 small quantity generators had a total on-site hazardous waste accumulation limit of 6,000 kilograms of non-acute hazardous waste and one kilogram of acute hazardous waste. The 1986 rule that established the category and specific requirements for those generating between 100 kilograms and 1,000 kilograms per month (small quantity generators) (51 FR 10146; March 24, 1986) implemented the changes to the hazardous waste program required by the Hazardous and Solid Waste Amendments of 1984 (HSWA) and established a new category of “conditionally exempt small quantity generator” for those generating less than 100 kilograms of non-acute hazardous waste per month.

The scope of HSWA and the new regulations for conditionally exempt small quantity generators did not include acute hazardous waste. Therefore, generators generating less than one kilogram of acute hazardous waste per month are conditionally exempt small quantity generators and those generating more than one kilogram of acute hazardous waste per month are large quantity generators. There is no separate small quantity generator category based solely on generation of acute hazardous waste.

The EPA clarified the distinctions between the three generator categories in the 2016 Generator Improvements rule and stated that a small quantity generator can only generate up to one kilogram of acute hazardous waste in a calendar month, but it was not clear in the new language whether there is a limit on the amount of acute hazardous waste a small quantity generator can accumulate on site at any one time. Consistent with what has been historically allowed for generators of small amounts of acute hazardous waste since the 1980 regulations, in the August 2023 technical correction notice, the EPA revised § 262.16(b)(1) to clarify that the acute hazardous waste accumulation limit for a small quantity generator is one kilogram.

The EPA received an adverse comment on this provision. One commenter stated that a 1-kilogram limit for small quantity generators accumulating acute hazardous waste would create severe logistical issues for facilities that generate just slightly under 1 kilogram per month of acutely hazardous waste as the proposed rule will essentially make their allowable accumulation time 30 days. The commenter stated that it would be “impossible to collect samples, characterize the waste, receive disposal approval for the waste and have the waste transported offsite within the allowable time frame.”

EPA disagrees with the comment. As described in this preamble, a 1-kilogram accumulation limit for this category of generator was part of the RCRA regulations starting in 1980 and the revision being made is to make that clearer in the regulations. The generator regulations are designed so that if a generator needs additional time to sample, characterize, and arrange for disposal of an acute hazardous waste that is accumulating on site, it can operate under the requirements for a large quantity generator instead of those of a small quantity generator and remain in compliance with the generator regulations. The additional large quantity generator standards ensure the safe handling of the elevated amounts of acute hazardous waste being accumulated at the generator site.

EPA is finalizing this provision as described in the August 9, 2023, notice.

C. Section 262.17(a)(8)(i) Introductory Text and (a)(8)(i)(A)

The 2016 Hazardous Waste Generator Improvements Rule added a requirement that LQGs undergoing closure of a hazardous waste unit submit a notification that they are closing that unit, including information on the timing of the closure. The generators have two options for submitting that notification when a specific waste accumulation unit is closing, but the generator as a whole is not closing all its units on site (i.e., it will continue generating and accumulating hazardous waste on site). The 2023 direct final rule revised the language in § 262.17(a)(8)(i) and (a)(8)(i)(A) to more clearly describe when the provisions apply and used the defined term “final closure.” The preamble to the 2023 direct final rule explained that EPA made these changes to distinguish between the requirements that apply when a unit is closing and those that apply when the whole facility is closing.

EPA received an adverse comment on this revision from a State that implements hazardous waste regulations. The commenter argued that a reference to the defined term “final closure” in this introductory text is not appropriate and suggested that EPA instead use the phrase “undergoing closure of the facility.” The commenter argues that this would be more appropriate for a generator closing a waste unit and needing to follow this requirement.

The commenter also submitted comments on a suggested revision to § 262.17(a)(8)(i)(A), stating that this part of the closure regulations would be clearer if the last statement in § 262.17(a)(8)(i)(B) about when a generator can remove a closure notice from its operating record because a waste accumulation unit was reopened was moved from § 262.17(a)(8)(i)(B) to § 262.17(a)(8)(i)(A).

EPA agrees that using the term “final closure” in this paragraph adds unnecessary confusion and that the sentence the commenter identified would make more sense in the revised § 262.17(a)(8)(i)(A). EPA is finalizing revisions to this section to make those changes and to state that the regulations apply when closing a waste accumulation unit but not all waste accumulation units.

D. Section 266.508(a)(2)(ii)

The preamble to the 2023 direct final rule explained that EPA was amending § 266.508(a)(2)(ii) in two ways. First, EPA allowed the four-character PHRM code as well as the existing six-character PHARMS code in Item 13 when manifesting non-creditable hazardous waste pharmaceuticals to a TSDF. This was consistent with guidance EPA issued in 2019.¹ Second, EPA inserted a sentence at the end clarifying that a healthcare facility may choose to include the applicable EPA hazardous waste numbers (i.e., hazardous waste codes) in Item 13 of EPA Form 8700-22, in addition to the PHARMS or PHRM code that was already required. This was consistent with preamble from the Hazardous Waste Pharmaceuticals final rule.²

¹ From Johnson to EPA Regions, December 19, 2019, RCRA Online #14919.

² 84 FR 5877; February 22, 2019.

EPA received one adverse comment on the second provision. The commenter was a State that expressed concerns that the rule does not resolve the issue that the inclusion of RCRA codes with PHRM/PHARMS on a manifest seems to negate any benefits for a healthcare facility operating under Subpart P. The State was concerned that a healthcare facility would be charged a higher fee by those States which collect fees. The State noted that including PHRM or PHARMS along with RCRA hazardous waste codes creates confusion and that it is unclear why the RCRA codes are being listed.

EPA disagrees with the commenter and is finalizing the provision as proposed. First, with respect to the PHRM code, while we did not receive any comments on this specific aspect of the proposed amendment, the adverse comment on other portions of the same paragraph meant that this was withdrawn, as well. This final rule allows healthcare facilities to use the PHRM or PHARMS code in Item 13 when manifesting non-creditable hazardous waste pharmaceuticals.

Second, with respect to hazardous waste codes, this final rule allows healthcare facilities to include hazardous waste codes in addition to the PHRM/PHARMS code when manifesting non-creditable hazardous waste pharmaceuticals. As discussed in a Frequent Question that is posted to our website,³ as well as in a memorandum,⁴ there are certain situations where the hazardous waste codes need to be included when manifesting non-creditable hazardous waste pharmaceuticals. For example, in States that have not yet adopted part 266 subpart P, healthcare facilities are subject to the standard 40 CFR part 262 generator regulations for their hazardous waste pharmaceuticals, which require healthcare facilities to include all applicable waste codes on the manifest. Therefore, if a healthcare facility that is operating under part 266 subpart P ships non-creditable hazardous waste pharmaceuticals to a TSDF that is in a State that has not yet adopted part 266 subpart P, the healthcare facility would need to include the hazardous waste codes to satisfy the regulatory requirements in the receiving State. Additionally, some vendors may require their healthcare facility customers to include the hazardous waste codes and EPA does not want to preclude that practice because including all applicable hazardous waste codes could help receiving facilities better understand the wastes and determine the best course of management including, for example, complying with the land disposal restriction treatment standards.

³ https://www.epa.gov/hwgenerators/frequent-questions-about-management-standards-hazardous-waste-pharmaceuticals-and#e2.

⁴ From Johnson to EPA Regions, December 19, 2019, RCRA Online #14919.

Finally, waste industry representatives have told EPA that their practice is to not commingle hazardous waste pharmaceuticals in the same container with non-pharmaceutical hazardous wastes.⁵ This means that when hazardous waste codes are included on the same line of the manifest as the PHRM/PHARMS code, the hazardous waste codes can be presumed to be referring to hazardous waste pharmaceuticals, and not to other, non-pharmaceutical hazardous wastes.

⁵ Per personal communication with Charlotte Smith of Waste Management, January 26, 2022, and email communication with Mike Crisenbery of Clean Harbors, February 10, 2022.

For these reasons, EPA is finalizing regulatory language that allows a healthcare facility to include the hazardous waste codes in Item 13 of the manifest, in addition to the PHRM/PHARMS code.

V. State Authorization

A. Applicability of Rules in Authorized States

Under section 3006 of RCRA, the EPA may authorize a qualified State to administer its own hazardous waste program within the State in lieu of the Federal program. Following authorization, the EPA retains enforcement authority under sections 3008, 3013, and 7003 of RCRA, although authorized States have primary enforcement responsibility. The standards and requirements for State authorization are found at 40 CFR part 271.

Prior to enactment of the Hazardous and Solid Waste Amendments of 1984 (HSWA), a State with final RCRA authorization administered its hazardous waste program entirely in lieu of the EPA administering the Federal program in that State. The Federal requirements no longer applied in the authorized State, and the EPA could not issue permits for any facilities in that State, since only the State was authorized to issue RCRA permits. When new, more stringent Federal requirements were promulgated, the State was obligated to enact equivalent authorities within specified time frames. However, the new Federal requirements did not take effect in an authorized State until the State adopted the Federal requirements as State law.

In contrast, under RCRA section 3006(g) (42 U.S.C. 6926(g)), which was added by HSWA, new requirements and prohibitions imposed under HSWA authority take effect in authorized States at the same time that they take effect in unauthorized States. The EPA is directed by the statute to implement these requirements and prohibitions in authorized States, including the issuance of permits, until the State is granted authorization to do so. While States must still adopt HSWA related provisions as State law to retain final authorization, the EPA implements the HSWA provisions in authorized States until the States do so.

Authorized States are required to modify their program only when the EPA enacts Federal requirements that are more stringent or broader in scope than the existing Federal requirements. RCRA section 3009 allows the States to impose standards more stringent than those in the Federal program (see also 40 CFR 271.1). Therefore, authorized States may, but are not required to, adopt Federal regulations, both HSWA and non-HSWA, that are considered less stringent than or equally as stringent as the previous Federal regulations.

B. Effect on State Authorization

This final rule finalizes technical corrections to regulations in 40 CFR parts 261, 262, and 266 that are being promulgated in part under the authority of HSWA, and in part under non-HSWA authority. Thus, the technical corrections and clarifications finalized in this direct final rule that are under non-HSWA authority would be applicable on the effective date only in those States that do not have final authorization of their base RCRA programs. However, the technical corrections to regulations in § 262.16(b)(1) are promulgated under the authority of HSWA and would be effective on the effective date of this final rule in all States.

This final rule is considered to be neither more nor less stringent than the current standards. Therefore, because of section 3009 of RCRA, which allows States to impose more stringent regulations than the Federal program, as described in section V.a. of this preamble, authorized States would not be required to modify their programs to adopt the technical corrections promulgated in this final rule, although we would strongly urge the States to adopt these technical corrections to avoid any confusion or misunderstanding by the regulated community and the public.

VI. Statutory and Executive Order Reviews

Additional information about these statutes and Executive Orders can be found at https://www.epa.gov/laws-regulations/laws-and-executive-orders.

A. Executive Order 12866: Regulatory Planning and Review and Executive Order 14094: Modernizing Regulatory Review

This action is not a significant regulatory action as defined in Executive Order 12866, as amended by Executive Order 14094, and was therefore not subject to a requirement for Executive Order 12866 review.

B. Paperwork Reduction Act (PRA)

This action does not impose any new information collection burden under the PRA because it does not contain any information collection activities. OMB has previously approved the information collection activities contained in the existing regulations and has assigned OMB control numbers 2050-0213, 2050-0202, and 2050-0212.

C. Regulatory Flexibility Act (RFA)

I certify that this action will not have a significant economic impact on a substantial number of small entities under the RFA. This action simply corrects typographical errors, incorrect citations, and omissions; provides clarifications; and makes conforming changes where they have not been made previously. We have therefore concluded that this action will have no regulatory burden for all directly regulated small entities.

D. Unfunded Mandates Reform Act (UMRA)

This action does not contain an unfunded mandate of $100 million (adjusted annually for inflation) or more (in 1995 dollars) as described in UMRA, 2 U.S.C. 1531-1538, and does not significantly or uniquely affect small governments. The action imposes no enforceable duty on any state, local, or tribal governments or the private sector.

E. Executive Order 13132: Federalism

This action does not have federalism implications. It will not have substantial direct effects on the States, on the relationship between the National Government and the States, or on the distribution of power and responsibilities among the various levels of government.

F. Executive Order 13175: Consultation and Coordination With Indian Tribal Governments

This action does not have tribal implications as specified in Executive Order 13175. Because the rule does not make any substantive change, it will not impose substantial direct costs on Tribal governments. Thus, Executive Order 13175 does not apply to this action.

G. Executive Order 13045: Protection of Children From Environmental Health Risks and Safety Risks

EPA interprets Executive Order 13045 as applying only to those regulatory actions that concern environmental health or safety risks that EPA has reason to believe may disproportionately affect children, per the definition of “covered regulatory action” in section 2-202 of the Executive Order.

Therefore, this action is not subject to Executive Order 13045 because it does not concern an environmental health risk or safety risk. Since this action does not concern human health, EPA's Policy on Children's Health also does not apply.

H. Executive Order 13211: Actions Concerning Regulations That Significantly Affect Energy Supply, Distribution, or Use

This action is not subject to Executive Order 13211 because it is not a significant regulatory action under Executive Order 12866.

I. National Technology Transfer and Advancement Act (NTTAA)

This rulemaking does not involve technical standards.

J. Executive Order 12898: Federal Actions To Address Environmental Justice in Minority Populations and Low-Income Populations

The EPA believes that these technical corrections do not concern human health or environmental conditions and therefore cannot be evaluated with respect to potentially disproportionate and adverse effects on people of color, low-income populations and/or indigenous peoples because this final rule does not create any new regulatory requirements, but rather clarifies existing requirements and makes conforming changes.

K. Congressional Review Act (CRA)

This action is subject to the CRA, and the EPA will submit a rule report to each House of the Congress and to the Comptroller General of the United States. This action is not a “major rule” as defined by 5 U.S.C. 804(2).

List of Subjects

40 CFR Part 261

Environmental protection, Administrative practice and procedure, Air pollution control, Confidential business information, Hazardous waste, Intergovernmental relations, Licensing and registration, Reporting and recordkeeping requirements.

40 FR Part 262

Environmental protection, Exports, Hazardous materials transportation, Hazardous waste, Imports, Labeling, Packaging and containers, Reporting and recordkeeping requirements.

40 FR Part 266

Environmental protection, Energy, Hazardous waste, Recycling, Reporting and recordkeeping requirements.

Michael S. Regan,
Administrator.

For the reasons set forth in the preamble, title 40, chapter I of the Code of Federal Regulations is amended as follows:

PART 261—IDENTIFICATION AND LISTING OF HAZARDOUS WASTE

1. The authority for part 261 continues to read as follows:

Authority: 42 U.S.C. 6905, 6912(a), 6921, 6922, 6924(y) and 6938.

2. Section 261.4 is amended by revising (e)(1) introductory text to read as follows:

§ 261.4 Exclusions.

(e) * * *

(1) Except as provided in paragraphs (e)(2) and (4) of this section, persons who generate or collect samples for the purpose of conducting treatability studies as defined in 40 CFR 260.10, are not subject to any requirement of this part, 40 CFR parts 262 and 263, or to the notification requirements of Section 3010 of RCRA, nor are such samples included in the quantity determinations of 40 CFR 262.13 and the accumulation limits in 40 CFR 262.14(a)(3), 40 CFR 262.14(a)(4), and 40 CFR 262.16(b)(1) when:

* * * * *

PART 262—STANDARDS APPLICABLE TO GENERATORS OF HAZARDOUS WASTE

3. The authority for part 262 continues to read as follows:

Authority: 42 U.S.C. 6906, 6912, 6922-6925, 6937, 6938 and 6939g.

4. Section 262.16 is amended by revising paragraph (b)(1) to read as follows:

§ 262.16 Conditions for exemption for a small quantity generator that accumulates hazardous waste.

(b) * * *

(1) Accumulation limit. The quantity of acute hazardous waste accumulated on site never exceeds 1 kilogram (2.2 pounds) and the quantity of non-acute hazardous waste accumulated on site never exceeds 6,000 kilograms (13,200 pounds);

* * * * *

5. Section 262.17 is amended by revising (a)(8)(i) to read as follows:

§ 262.17 Conditions for exemption for a large quantity generator that accumulates hazardous waste.

(a) * * *

(8) * * *

(i) Notification for closure of a waste accumulation unit. A large quantity generator must perform one of the following when closing a waste accumulation unit, but not all waste accumulation units:

(A) Place a notice in the operating record within 30 days after closure identifying the location of the unit within the facility (if the waste accumulation unit is subsequently reopened, the generator may remove the notice from the operating record); or

(B) Meet the closure performance standards of paragraph (a)(8)(iii) of this section for container, tank, and containment building waste accumulation units or paragraph (a)(8)(iv) of this section for drip pads and notify EPA following the procedures in paragraph (a)(8)(ii)(B) of this section for the waste accumulation unit.

* * * * *

PART 266—STANDARDS FOR THE MANAGEMENT OF SPECIFIC HAZARDOUS WASTES AND SPECIFIC TYPES OF HAZARDOUS WASTE MANAGEMENT FACILITIES

6. The authority for part 266 continues to read as follows:

Authority: 42 U.S.C. 1006, 2002(a), 3001-3009, 3014, 3017, 6905, 6906, 6912, 6921, 6922, 6924-6927, 6934, and 6937.

7. Section 266.508 is amended by revising paragraph (a)(2)(ii) to read as follows:

§ 266.508 Shipping non-creditable hazardous waste pharmaceuticals from a healthcare facility or evaluated hazardous waste pharmaceuticals from a reverse distributor.

(a) * * *

(2) * * *

(ii) A healthcare facility shipping non-creditable hazardous waste pharmaceuticals must write the word “PHRM” or “PHARMS” in Item 13 of EPA Form 8700-22. A healthcare facility may also include the applicable EPA hazardous waste numbers (i.e., hazardous waste codes) in Item 13 of EPA Form 8700-22.

* * * * *

[FR Doc. 2024-28802 Filed 12-10-24; 8:45 am]

BILLING CODE 6560-50-P